INTERNATIONAL TRADE COMMISSION

[USITC SE-06-013]

Sunshine Act Meeting

Agency Holding the Meeting: United States International Trade Commission.

Time and Date: March 6, 2006 at 2 p.m.

Place: Room 101, 500 E Street SW., Washington, DC 20436., Telephone: (202) 205-2000.

Status: Open to the public.

Matters to be Considered: 1. Agenda for future meetings: none.

2. Minutes.

3. Ratification List.

4. Inv. Nos. 701-TA-269 and 270 and 731-TA-311-314, 317, and 379 (Second Review)(Brass Sheet and Strip from Brazil, Canada, France, Germany, Italy, and Japan)—briefing and vote. (The Commission is currently scheduled to transmit its determination and Commissioners' opinions to the Secretary of Commerce on or before March 21, 2006.)

5. Outstanding action jackets: none.

In accordance with Commission policy, subject matter listed above, not disposed of at the scheduled meeting, may be carried over to the agenda of the following meeting.

By order of the Commission:
Issued: February 22, 2006.
Marilyn R. Abbott,
Secretary to the Commission.

[FR Doc. 06-1815 Filed 2-22-06; 3:47 pm]

BILLING CODE 7020-02-P